DEPARTMENT OF ENERGY

Federal Energy Regulatory Commission

[Project No. 1388-082]

Southern California Edison Company; Notice of Application Tendered for Filing With the Commission and Soliciting Additional Study Requests Establishing Procedural Schedule for Relicensing and Deadline for Submission of Final Amendments

Take notice that the following hydroelectric application has been filed with the Commission and is available for public inspection.

a. Type of Application: New Major License.

b. Project No.: 1388-082.

c. Date Filed: January 29, 2025.

d. Applicant: Southern California Edison Company.

e. Name of Project: Lee Vining Hydroelectric Project.

f. Location: The existing project is located on both Lee Vining and Glacier Creeks in Inyo County, California, near the town of Lee Vining. The project affects 536 acres of Federal land managed by the U.S. Forest Service.

g. Filed Pursuant to: Federal Power Act, 16 U.S.C. 791(a)-825(r).

h. Applicant Contact: Wayne Allen, Principal Manager, Southern California Edison Company, 2244 Walnut Grove Avenue, Rosemead, CA 91770; Telephone (626) 302-9741 or email wayneallen@sce.com.

i. FERC Contact: Rebecca Kipp, (202) 502-8846 or rebecca.kipp@ferc.gov.

j. Cooperating agencies: Federal, state, local, and tribal agencies with jurisdiction and/or special expertise with respect to environmental issues that wish to cooperate in the preparation of the environmental document should follow the instructions for filing such requests described in item l below. Cooperating agencies should note the Commission's policy that agencies that cooperate in the preparation of the environmental document cannot also intervene. See, 94 FERC ¶ 61,076 (2001).

k. Pursuant to section 4.32(b)(7) of 18 CFR of the Commission's regulations, if any resource agency, Indian Tribe, or person believes that an additional scientific study should be conducted in order to form an adequate factual basis for a complete analysis of the application on its merit, the resource agency, Indian Tribe, or person must file a request for a study with the Commission not later than 60 days from the date of filing of the application, and serve a copy of the request on the applicant.

l. Deadline for filing additional study requests and requests for cooperating agency status: March 31, 2025.

The Commission strongly encourages electronic filing. Please file additional study requests and requests for cooperating agency status using the Commission's eFiling system at http://www.ferc.gov/docs-filing/efiling.asp. For assistance, please contact FERC Online Support at FERCOnlineSupport@ferc.gov, (866) 208-3676 (toll free), or (202) 502-8659 (TTY). In lieu of electronic filing, you may submit a paper copy. Submissions sent via the U.S. Postal Service must be addressed to: Debbie-Anne A. Reese, Secretary, Federal Energy Regulatory Commission, 888 First Street NE, Room 1A, Washington, DC 20426. Submissions sent via any other carrier must be addressed to: Kimberly D. Bose, Secretary, Federal Energy Regulatory Commission, 12225 Wilkins Avenue, Rockville, Maryland 20852. All filings must clearly identify the project name and docket number on the first page: Lee Vining Hydroelectric Project (P-1388-082).

m. This application is not ready for environmental analysis at this time.

n. The existing Lee Vining Hydroelectric Project consists of four dams and three reservoirs including: (1) the 600-foot-long, 45-foot-high redwood-faced rockfill Saddlebag Dam with: (a) a 54-foot-wide, 4.5-foot-deep rectangular notch spillway that discharges directly into Lee Vining Creek below the dam, (b) a 297-acre Saddlebag Lake impoundment with 9,495 acre-feet net storage capacity at 10,089.40 feet above sea level elevation, (c) a 220-foot-long, 30-inch-diameter riveted steel pipeline to extend the outlet downstream of the dam, and (d) a low-level outlet works with maximum discharge capacity of about 150 cubic feet per second (cfs) that discharges directly into Lee Vining Creek and consists of: (i) a fully submerged, ungated, concrete intake box at 10,048.8 feet elevation located at upstream toe of the dam that admits water to (ii) a 30-inch-diameter concrete-encased steel pipe that passes under the dam near the left abutment that is controlled at the downstream toe by (iii) a manually operated 30-inch rising stem gate valve, and (iv) a concrete valve house located at the south of Saddlebag Dam; (2) the 270-foot-long, 27-foot-high redwood-faced rockfill Tioga Dam with: (e) 57-feet-wide, 4-feet-deep spillway with a crest elevation of 9,650.28 feet, (f) the low-level outlet works consist of a 24-inch-diameter concrete-encased riveted steel pipe that passes through the base of the main Tioga Dam with an upstream invert elevation of 9,626.72 feet, draining into Lee Vining Creek and is manually controlled by (g) a 24-inch gate valve located in (h) a concrete valve house at the downstream toe of the Tioga Dam; and (3) the 50-foot-long, 19-foot-high, concrete-arch Tioga Auxiliary Dam located on Tioga Lake in the headwaters of Glacier Creek, that together with the Tioga Dam impound the 73-acre Tioga Lake with 1,254 acre-feet net storage capacity at 9,650.28 feet above sea level elevation, and (j) the 19.5-foot-long right auxiliary spillway bay, and the 21.5-foot-long left auxiliary spillway bay at 9,651.28 feet crest elevation; and (4) the 437-foot-long, 18.5-foot-high rockfill Rhinedollar Dam that (k) impounds the 61-acre Ellery Lake with 493 acre-feet net storage capacity at 9,492.53 feet above sea level elevation, (l) three spillway bays, each 12-foot-wide and 6.5-foot-deep, located at Rhinedollar Dam at an elevation of 9,492.53 feet, (m) a reinforced concrete intake structure at 9,480 feet elevation, (n) a 6,271-foot-long below ground flowline with a maximum flow of 110 cfs that convey flows from Ellery Lake at the Rhinedollar Dam to Poole Powerhouse and consist of: (v) a 2,530-foot-long, 48-inch-diameter double riveted steel pipeline, and (vi) a 3,741-foot-long steel penstock that tapers from 44- to 28-inches in diameter; (o) the outlet works consists of a 48-inch concrete-encased steel pipe conduit with a butterfly valve at the downstream end; (p) the 68-foot-long, 38-foot-wide, 43-foot-high reinforced concrete Poole Powerhouse and located on Lee Vining Creek east downstream of Ellery Lake which contains one generating unit with a nameplate capacity of 11.25 megawatt (MW); (q) a switchyard located immediately north of the powerhouse that contains the main power transformers, (r) approximately 50 feet of primary transmission line between the switchyard and Poole Powerhouse, (s) seven project-associated stream gages immediately downstream of Saddlebag and Tioga Dams, in stream; and (t) appurtenant facilities.

Southern California Edison Company is not proposing any changes to project facilities or operation.

o. In addition to publishing this notice in the Federal Register, the Commission provides all interested persons an opportunity to view and/or print the contents of this notice, as well as other documents in the proceeding (e.g., license application) via the internet through the Commission's Home Page (http://www.ferc.gov), using the “eLibrary” link. Enter the docket number, excluding the last three digits in the docket number field to access the document (P-1388). For assistance, contact FERC at FERCOnlineSupport@ferc.gov, (866) 208-3676 (toll free), or (202) 502-8659 (TTY).

You may also register online at http://www.ferc.gov/docs-filing/esubscription.asp to be notified via email of new filings and issuances related to this or other pending projects. For assistance, contact FERC Online Support.

p. The Commission's Office of Public Participation (OPP) supports meaningful public engagement and participation in Commission proceedings. OPP can help members of the public, including landowners, community organizations, Tribal members and others, access publicly available information and navigate Commission processes. For public inquiries and assistance with making filings such as interventions, comments, or requests for rehearing, the public is encouraged to contact OPP at (202) 502-6595 or OPP@ferc.gov.

q. Procedural schedule and final amendments: the application will be processed according to the following preliminary schedule. Revisions to the schedule will be made as appropriate.

Milestone | Target date
Issue Deficiency Letter (if necessary) | March 2025.
Request Additional Information (if necessary) | March 2025.
Issue Scoping Document 1 for comments | June 2025.
Issue Acceptance Letter | July 2025.
Request Additional Information (if necessary) | July 2025.
Issue Scoping Document 2 (if necessary) | August 2025.
Issue Notice of Ready for Environmental Analysis | August 2025.

r. Final amendments to the application must be filed with the Commission no later than 30 days from the issuance date of the notice of ready for environmental analysis.

Dated: February 12, 2025.
Carlos D. Clay,
Deputy Secretary.

[FR Doc. 2025-02778 Filed 2-18-25; 8:45 am]

BILLING CODE 6717-01-P